DEPARTMENT OF DEFENSE

Department of the Navy

Notice of Partially Closed Meeting of Naval Research Advisory Committee (NRAC)

AGENCY: Department of the Navy, DoD.

ACTION: Notice.

SUMMARY: The Naval Research Advisory Committee (NRAC) will meet to discuss classified, For Official Use Only (FOUO) information from government organizations, and proprietary information from commercial organizations. With the exception of the sessions on Monday June 22, 2009, the morning of Tuesday June 23, 2009, and the morning of Thursday July 2, 2009, all sessions of the meeting will be devoted to classified, unclassified, FOUO and vendor proprietary briefings, discussions and technical examination of information related to the study of Future Naval Use of Commercially Off The Shelf (COTS) Networking Infrastructure (FNCOTS), Immersive Simulations for U.S. Marine Corps Small Units (ISUSMC), Tactical Jet Noise Reduction (TJNR) and The Role of Unmanned Undersea Vehicles in Critical Undersea Infrastructure (UUV).

Discussions will focus on the exploitation of physical vulnerabilities and the tactical applications of known and emerging technologies. Each session will examine vulnerabilities of individuals and systems, and how the enemy may be exploiting these vulnerabilities. The sessions will also include proprietary information regarding technology applications and systems under development in the private sector between competing companies. The sessions will also focus on the assessment of the emerging concepts of operations in each of these areas and evaluate appropriate options in such areas as: Training, S&T funding allocation, technology monitoring, and progress assessments; and, probable time frames for transformation and implementation. The sessions will also identify, review and assess challenges with the utilization and fielding of various technology applications.

DATES: The open session of the meeting will be held on Monday, June 22, 2009, from 8 a.m. to 4 p.m.; Tuesday, June 23, 2009, from 8 a.m. to 10 a.m.; and Thursday, July 2, 2009, from 8 a.m. to 12 p.m. The closed executive session will be held on June 23, 2009, from 10:15 a.m. to 4 p.m.; June 24, 2009 to June 26, 2009; and, June 29, 2009 to July 1, 2009.

Public Access: The NRAC Summer Study will be held in the Cloud Room at 53605 Hull Street, Space and Naval Warfare Systems Center, San Diego, CA 92152-5410. Access instructions for the public:

1. If you are a non-U.S. citizen you must submit a visit request by letter or fax (619-553-2726) via your embassy to: SPAWARSYSCEN San Diego, Code 20352 (PL-TS), POC: Jackie Olson, 854, 49275 Electron Drive, San Diego, CA 92152-5435. Please indicate that you will be attending the open sessions of the Naval Research Advisory Committee (NRAC) Summer Study.

2. If you are a U.S. government employee or active military with a security clearance, please submit a visit request via JPAS to SPAWARS; UIC number 660015 or fax it to 619-553-2726. POC is Ms. Jackie Olson, 854, 49275 Electron Drive, San Diego, CA 92152-5435.

3. If you are a U.S. citizen with no security clearance, you will require an escort at all times while on SPAWARS facilities. Please submit a visit request via e-mail or fax no later than June, 16, 2009, to: Mr. William Ellis, NRAC Program Director, elliswonr@gmail.com; FAX: 703-696-4837 or Mr. Miguel Becerril, NRAC Program Manager, mbecerril@jorge.com; FAX: 703-696-4837.

All guests must have at least two forms of government issued identification. Those guests planning on attending activities indicated above must have submitted their respective visit request per the above instructions. If the guest requires an escort, he/she must be present at the SPAWARS Visitor Center no later than 7 a.m. The Visitor Center is located at the entrance to the Space and Naval Warfare Center, 49275 Electron Drive, San Diego, CA. Guests requiring an escort will be greeted by a member of the NRAC staff and escorted to the site of the Summer Study. Escorted guests will be limited to only those areas related to the Summer Study activities. Escorted guests will be returned to the Visitor Center upon completion of the NRAC activities open to the public.

FOR FURTHER INFORMATION CONTACT: Mr. William H. Ellis, Jr., Program Director, Naval Research Advisory Committee, 875 North Randolph Street, Arlington, VA 22203-1955, 703-696-5775.

SUPPLEMENTARY INFORMATION: This notice is provided in accordance with the provisions of the Federal Advisory Committee Act (5 U.S.C. App. 2). With the exception of activities detailed above, all sessions of the meeting will be devoted to executive sessions that will include discussions and technical examination of information related to Future Naval Use of Commercially Off The Shelf (COTS) Networking Infrastructure (FNCOTS) and Immersive Simulations for U.S. Marine Corps Small Units (ISUSMC). These briefings and discussions will contain proprietary information and official use only information that is specifically authorized under criteria established by Executive Order to be kept FOUO in the interest of national defense and are in fact properly classified pursuant to such Executive Order and SECNAV Instructions M-5510.36 of June 2006. The classified, proprietary, FOUO, and non-classified matters to be discussed are so inextricably intertwined as to preclude opening these sessions of the meeting. In accordance with 5 U.S.C. App. 2, section 10(d), the Secretary of the Navy has determined in writing that the public interest requires that these sessions of the meeting be closed to the public because they will be concerned with matters listed in 5 U.S.C. section 552b(c)(1) and (4).

Dated: May 28, 2009.
A.M. Vallandingham,
Lieutenant Commander, Judge Advocate General's Corps, U.S. Navy Federal Register Liaison Officer.

[FR Doc. E9-13104 Filed 6-4-09; 8:45 am]

BILLING CODE 3810-FF-P